DEPARTMENT OF COMMERCE

Patent and Trademark Office

Patent and Trademark Financial Transactions

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before April 14, 2014.

ADDRESSES: You may submit comments by any of the following methods:

• Email: InformationCollection@uspto.gov. Include “0651-0043 comment” in the subject line of the message.

• Mail: Susan K. Fawcett, Records Officer, Office of the Chief Information Officer, United States Patent and Trademark Office, P.O. Box 1450, Alexandria, VA 22313-1450.

• Federal Rulemaking Portal: http://www.regulations.gov.

FOR FURTHER INFORMATION CONTACT: Requests for additional information should be directed to Matthew Lee, Office of Finance, United States Patent and Trademark Office, P.O. Box 1450, Alexandria, VA 22313-1450; by telephone at 571-272-6343; or by email to Matthew.Lee@uspto.gov. Additional information about this collection is also available at http://www.reginfo.gov under “Information Collection Review.”

SUPPLEMENTARY INFORMATION:

I. Abstract

Under 35 U.S.C. 41 and 15 U.S.C. 1113, the United States Patent and Trademark Office (USPTO) charges fees for processing and other services related to patents, trademarks, and information products. Customers may submit payments to the USPTO by several methods, including credit card, deposit account, electronic funds transfer (EFT), and paper check transactions. The provisions of 35 U.S.C. 41 and 15 U.S.C. 1113 are implemented in 37 CFR 1.16-1.28, 2.6-2.7, and 2.206-2.209.

This information collection includes the Credit Card Payment Form (PTO-2038), which provides the public with a convenient way to submit a credit card payment for fees related to a patent, trademark, or information product. Customers may also submit credit card payments via the Electronic Credit Card Payment Form (PTO-2231) when using online systems through the USPTO Web site for paying fees related to patents, trademarks, or information products.

The USPTO will not include credit card information submitted using the provided credit card payment forms among the patent or trademark records open to public inspection.

Customers may establish a deposit account for making fee payments by completing a Deposit Account Application Form (PTO-2232) and sending the required information, initial deposit, and service fee to the USPTO. Deposit accounts eliminate the need to submit a check, credit card information, or other form of payment for each transaction with the USPTO. Additionally, in the event that a fee amount due is miscalculated, customers may authorize the USPTO to charge any remaining balance to the deposit account and therefore avoid the potential consequences of underpayment. As customers use their deposit accounts to make payments, they may deposit funds to replenish their accounts by mailing a check to the USPTO, sending funds via wire transfer, or making a deposit online via EFT using the Electronic Deposit Account Replenishment Form (PTO-2233) available at the USPTO Web site. Replenishments may not be made by credit card. Customers may close their deposit accounts by submitting a written request or by using the Deposit Account Closure Request Form (PTO-2234). The USPTO is also adding the Deposit Account Withdrawal Request to this collection to allow customers to remove funds from their deposit accounts without closing the entire account.

In addition to credit cards and deposit accounts, customers may also use EFT to make online fee payments to the USPTO. Customers must first establish a user profile with their banking information by submitting the EFT User Profile Form (PTO-2236) through the USPTO Web site. Once their profile is created, customers may use their User ID and password to perform EFT transactions.

Under 37 CFR 1.26 and 2.209, the USPTO may refund fees paid by mistake or in excess of the required amount. In general, refunds of amounts larger than $25 are returned to the customer automatically using the same method as the original payment. For refund amounts of $25 or less, customers must submit a written request to the Refund Branch of the USPTO Office of Finance.

The USPTO is currently developing a new MyFinancials system that will allow customers to add, manage, and report on payment methods in their online user profiles at the USPTO Web site. After establishing a USPTO username and password, customers may add their credit card, deposit account, and EFT information to their profile using the MyFinancials web interface. Customers may then manage and report on these stored payment methods online. In the future, the USPTO will deploy additional functionality that will allow the stored payment methods to be used when the customer conducts transactions with the USPTO.

Once the MyFinancials system is deployed, the information that customers currently submit using the Deposit Account Application Form (PTO-2232) and the EFT User Profile Form (PTO-2236) will be integrated into the MyFinancials interface, eliminating the need for these separate forms and thereby streamlining the process of setting up those payment methods. When those separate forms are no longer necessary, the USPTO will remove them from this collection.

II. Method of Collection

By mail, facsimile, hand delivery, or electronically to the USPTO.

III. Data

OMB Number: 0651-0043.

Form Number(s): PTO-2038, PTO-2231, PTO-2232, PTO-2233, PTO-2234, PTO-2236.

Type of Review: Revision of a currently approved collection.

Affected Public: Individuals or households; businesses or other for-profits; and not-for-profit institutions.

Estimated Number of Respondents: 2,590,950 responses per year. The USPTO estimates that approximately 21% of these responses will be from small entities.

Estimated Time per Response: The USPTO estimates that it will take the public approximately one to seven minutes (0.02 to 0.12 hours) to gather the necessary information, prepare the appropriate form or document, and submit the items in this collection to the USPTO.

Estimated Total Annual Respondent Burden Hours: 77,925 hours.

Estimated Total Annual Respondent Cost Burden: $4,130,025. The USPTO expects that 75% of the submissions for this information collection will be prepared by fee administrators/coordinators and that 25% of the submissions will be prepared by paraprofessionals. Using those proportions and the estimated rates of $30 per hour for fee administrators/coordinators and $122 per hour for paraprofessionals, the USPTO estimates that the average rate for all respondents will be approximately $53 per hour. Therefore, the USPTO estimates that the respondent cost burden for submitting the information in this collection will be approximately $4,130,025 per year.

Item | Estimated time for response (minutes) | Estimated annual responses | Estimated annual burden hours
Credit Card Payment Form (PTO-2038) | 2 | 103,115 | 3,093
Electronic Credit Card Payment Form (PTO-2231) | 2 | 2,412,213 | 72,366
Deposit Account Application Form (PTO-2232) | 2 | 284 | 9
Deposit Account Replenishment | 2 | 29,210 | 876
Electronic Deposit Account Replenishment Form (PTO-2233) | 1 | 34,339 | 687
Deposit Account Closure Request Form (PTO-2234) | 1 | 162 | 3
Deposit Account Withdrawal Request | 1 | 33 | 1
EFT User Profile Form (PTO-2236) | 3 | 1,320 | 66
Refund Request | 4 | 8,181 | 573
MyFinancials Stored Payment Methods | 7 | 2,093 | 251
Totals |  | 2,590,950 | 77,925

Estimated Total Annual Non-hour Respondent Cost Burden: $130,138. There are no capital start-up, maintenance, or recordkeeping costs associated with this information collection. However, this collection does have annual (non-hour) cost burden in the form of service fees associated with deposit accounts and returned payments as well as postage costs.

There are service fees for setting up a deposit account at the USPTO, for not maintaining the minimum balance required for the deposit account, and for returned payments. The service charge to establish a deposit account is $10, and the USPTO estimates that it processes 284 Deposit Account Application Forms annually, for a total of $2,840 per year. There is also a $25 service charge for deposit accounts that are below the minimum balance ($1,000 minimum balance for an unrestricted deposit account or $300 minimum balance for a restricted deposit account) at the end of the month. The USPTO estimates that it assesses 4,000 of these low balance charges annually, for a total of $100,000 per year. There is a $50 service charge for processing a payment refused (including a check returned “unpaid”) or charged back by a financial institution. The USPTO estimates that it assesses 129 of these returned payment charges annually, for a total of $6,450 per year. The total estimated service fees for this collection are $109,290 per year.

Customers may incur postage costs when submitting the Credit Card Payment Form and other paper forms or requests to the USPTO by mail. Customers generally send the Credit Card Payment Form to the USPTO along with other documents related to the fee or service being paid for by credit card, but some customers may submit just the Credit Card Payment Form without additional supporting documents. The USPTO estimates that roughly 5 percent of the 103,115 paper Credit Card Payment Forms submitted annually may be mailed in by themselves, or approximately 5,156 per year. The USPTO estimates that it will receive an additional 37,391 submissions per year that may be mailed, including Deposit Account Replenishments and Refund Requests, for a total of 42,547 mailed submissions per year. The USPTO estimates that the first-class postage cost for a mailed submission will be 49 cents, for a total postage cost of approximately $20,848 per year.

The total annual (non-hour) respondent cost burden for this collection in the form of service fees and postage costs is estimated to be approximately $130,138 per year.

IV. Request for Comments

Comments submitted in response to this notice will be summarized and/or included in the request for OMB approval. All comments will become a matter of public record.

The USPTO is soliciting public comments to: (a) Evaluate whether the proposed collection of information is necessary for the proper performance of the functions of the agency, including whether the information will have practical utility; (b) Evaluate the accuracy of the agency's estimate of the burden of the proposed collection of information, including the validity of the methodology and assumptions used; (c) Enhance the quality, utility, and clarity of the information to be collected; and (d) Minimize the burden of the collection of information on those who are to respond, including through the use of appropriate automated, electronic, mechanical, or other technological collection techniques or other forms of information technology, e.g., permitting electronic submission of responses.

Dated: February 7, 2014.
Susan K. Fawcett,
Records Officer, USPTO, Office of the Chief Information Officer.

[FR Doc. 2014-03070 Filed 2-11-14; 8:45 am]

BILLING CODE 3510-16-P